DEPARTMENT OF COMMERCE

International Trade Administration

[A-570-904]

Notice of Amended Final Determination of Sales at Less Than Fair Value: Certain Activated Carbon From the People's Republic of China

AGENCY: Import Administration, International Trade Administration, Department of Commerce.

EFFECTIVE DATE: March 30, 2007.

FOR FURTHER INFORMATION CONTACT: Catherine Bertrand or Anya Naschak, AD/CVD Operations, Office 9, Import Administration, International Trade Administration, U.S. Department of Commerce, 14th Street and Constitution Avenue, NW., Washington, DC 20230; telephone: (202) 482-3207 or 482-6375, respectively.

Amendment to the Final Determination

In accordance with sections 735(d) and 777(i)(1) of the Tariff Act of 1930, as amended, (“the Act”), on March 2, 2007, the Department of Commerce (“the Department”) published its final determination of sales at less than fair value (“LTFV”). See Final Determination of Sales at Less Than Fair Value: Certain Activated Carbon from the People's Republic of China, 72 FR 9508 (March 2, 2007) (Final Determination).

On March 5, 2007, NORIT Americas, Inc., and Calgon Carbon Corporation (collectively “Petitioners”) filed timely allegations that the Department made various ministerial errors in the Final Determination and requested, pursuant to19 CFR 351.224(c), that the Department correct the alleged ministerial errors in the calculation of the margins for respondents. Also, on March 5, 2007, both Jacobi Carbons AB (“Jacobi”) and Calgon Carbon (Tianjin) Co., Ltd. (“CCT”), respondents in this investigation, filed timely allegations that the Department made ministerial errors and also requested that the Department correct these errors. Also, on March 5, 2007, Jilin Province Bright Future Chemicals Co. Ltd. (“JBF Chemical”) and its affiliated company Jilin Province Bright Future Industry & Commerce Co. Ltd. (“JBF Industry”) (collectively “Jilin Bright Future”) requested clarification of the producer for the rate applied to the producer-exporter combination Shanxi DMD Corporation/Tonghua Xinpeng Activated Carbon Factory.

A ministerial error is defined as an error in addition, subtraction, or other arithmetic function, clerical error resulting from inaccurate copying, duplication, or the like, and any other similar type of unintentional error which the Department considers ministerial. See Section 735(e) of the Act; see also 19 CFR 351.224(f).

After analyzing all interested party comments and rebuttals, we have determined, in accordance with section 735 (e) of the Act and 19 CFR 351.224(e), that we made ministerial errors in our calculations performed for the final determination with respect to Jacobi and CCT. For a detailed discussion of these ministerial errors, as well as the Department's analysis, see Memorandum to James C. Doyle from Catherine Bertrand and Anya Naschak: Antidumping Duty Investigation of Certain Activated Carbon from the People's Republic of China: Analysis of Ministerial Error Allegations (“Ministerial Error Memo”). Additionally, in the Final Determination, we determined that several companies qualified for a separate rate. The separate rate was the weighted average of the margins for Jacobi and CCT, the mandatory respondents which received a calculated margin. Because the rates of Jacobi and CCT have changed since the Final Determination, we have recalculated the separate rate. The separate rate is now 67.14 percent. See Ministerial Error Memo at Attachment VI.

Therefore, in accordance with section 735(e) of the Act, we are amending the final determination of sales at LTFV in the antidumping duty investigation of certain activated carbon from the People's Republic of China (“PRC”). For the revisions to the calculations for all companies, see Ministerial Error Memo. The revised final dumping margins, some of which did not change, are as follows:

Exporter | Supplier | WA margin
Beijing Pacific Activated Carbon Products Co., Ltd | Alashan Yongtai Activated Carbon Co., Ltd | 67.14
Beijing Pacific Activated Carbon Products Co., Ltd | Changji Hongke Activated Carbon Co., Ltd | 67.14
Beijing Pacific Activated Carbon Products Co., Ltd | Datong Forward Activated Carbon Co., Ltd | 67.14
Beijing Pacific Activated Carbon Products Co., Ltd | Datong Locomotive Coal & Chemicals Co., Ltd | 67.14
Beijing Pacific Activated Carbon Products Co., Ltd | Datong Yunguang Chemicals Plant | 67.14
Beijing Pacific Activated Carbon Products Co., Ltd | Ningxia Guanghua Cherishmet Activated Carbon Co., Ltd | 67.14
Beijing Pacific Activated Carbon Products Co., Ltd | Ningxia Luyuangheng Activated Carbon Co., Ltd | 67.14
Calgon Carbon Tianjin Co., Ltd | Calgon Carbon Tianjin Co., Ltd | 69.54
Calgon Carbon Tianjin Co., Ltd | Datong Carbon Corporation | 69.54
Calgon Carbon Tianjin Co., Ltd | Datong Changtai Activated Carbon Co., Ltd | 69.54
Calgon Carbon Tianjin Co., Ltd | Datong Forward Activated Carbon Co., Ltd | 69.54
Calgon Carbon Tianjin Co., Ltd | Datong Fuping Activated Carbon Co., Ltd | 69.54
Calgon Carbon Tianjin Co., Ltd | Datong Hongtai Activated Carbon Co., Ltd | 69.54
Calgon Carbon Tianjin Co., Ltd | Datong Huanqing Activated Carbon Co., Ltd | 69.54
Calgon Carbon Tianjin Co., Ltd | Datong Huibao Activated Carbon Co., Ltd | 69.54
Calgon Carbon Tianjin Co., Ltd | Datong Kangda Activated Carbon Factory | 69.54
Calgon Carbon Tianjin Co., Ltd | Datong Runmei Activated Carbon Factory | 69.54
Calgon Carbon Tianjin Co., Ltd | Dushanzi Chemical Factory | 69.54
Calgon Carbon Tianjin Co., Ltd | Fangyuan Carbonization Co., Ltd | 69.54
Calgon Carbon Tianjin Co., Ltd | Hongke Activated Carbon Co., Ltd | 69.54
Calgon Carbon Tianjin Co., Ltd | Huairen Jinbei Chemical Co., Ltd | 69.54
Calgon Carbon Tianjin Co., Ltd | Jiaocheng Xinxin Purification Material Co., Ltd | 69.54
Calgon Carbon Tianjin Co., Ltd | Ningxia Guanghua Cherishment Activated Carbon Co., Ltd | 69.54
Calgon Carbon Tianjin Co., Ltd | Ningxia Guanghua A/C Co., Ltd | 69.54
Calgon Carbon Tianjin Co., Ltd | Ningxia Honghua Carbon Industrial Corporation | 69.54
Calgon Carbon Tianjin Co., Ltd | Ningxia Luyuanheng Activated Carbon Co., Ltd | 69.54
Calgon Carbon Tianjin Co., Ltd | Ningxia Pingluo Yaofu Activated Carbon Factory | 69.54
Calgon Carbon Tianjin Co., Ltd | Ningxia Tianfu Activated Carbon Co., Ltd | 69.54
Calgon Carbon Tianjin Co., Ltd | Ningxia Yinchuan Lanqiya Activated Carbon Co., Ltd | 69.54
Calgon Carbon Tianjin Co., Ltd | Nuclear Ningxia Activated Carbon Co., Ltd | 69.54
Calgon Carbon Tianjin Co., Ltd | Pingluo Xuanzhong Activated Carbon Co., Ltd | 69.54
Calgon Carbon Tianjin Co., Ltd | Shanxi Xuanzhong Chemical Industry Co., Ltd | 69.54
Calgon Carbon Tianjin Co., Ltd | Xingtai Coal Chemical Co., Ltd | 69.54
Calgon Carbon Tianjin Co., Ltd | Yuyang Activated Carbon Co., Ltd | 69.54
Datong Juqiang Activated Carbon Co., Ltd | Datong Juqiang Activated Carbon Co., Ltd | 67.14
Datong Locomotive Coal & Chemicals Co., Ltd | Datong Locomotive Coal & Chemicals Co., Ltd | 67.14
Datong Municipal Yunguang Activated Carbon Co., Ltd | Datong Municipal Yunguang Activated Carbon Co., Ltd | 67.14
Datong Yunguang Chemicals Plant | Datong Yunguang Chemicals Plant | 67.14
Hebei Foreign Trade and Advertising Corporation | Da Neng Zheng Da Activated Carbon Co., Ltd | 67.14
Hebei Foreign Trade and Advertising Corporation | Shanxi Bluesky Purification Material Co., Ltd | 67.14
Jacobi Carbons AB | Datong Forward Activated Carbon Co., Ltd | 61.95
Jacobi Carbons AB | Datong Hongtai Activated Carbon Co., Ltd | 61.95
Jacobi Carbons AB | Datong Huibao Activated Carbon Co., Ltd | 61.95
Jacobi Carbons AB | Ningxia Guanghua Activated Carbon Co., Ltd | 61.95
Jacobi Carbons AB | Ningxia Huahui Activated Carbon Company Limited | 61.95
Jilin Bright Future Chemicals Company, Ltd | Shanxi Xinhua Activated Carbon Co., Ltd | 228.11
Jilin Bright Future Chemicals Company, Ltd | Tonghua Bright Future Activated Carbon Plant | 228.11
Jilin Bright Future Chemicals Company, Ltd | Zuoyun Bright Future Activated Carbon Plant | 228.11
Jilin Province Bright Future Industry and Commerce Co., Ltd | Shanxi Xinhua Activated Carbon Co., Ltd | 228.11
Jilin Province Bright Future Industry and Commerce Co., Ltd | Tonghua Bright Future Activated Carbon Plant | 228.11
Jilin Province Bright Future Industry and Commerce Co., Ltd | Zuoyun Bright Future Activated Carbon Plant | 228.11
Ningxia Guanghua Cherishmet Activated Carbon Co., Ltd | Ningxia Guanghua Cherishmet Activated Carbon Co., Ltd | 67.14
Ningxia Huahui Activated Carbon Co., Ltd | Ningxia Huahui Activated Carbon Co., Ltd | 67.14
Ningxia Mineral & Chemical Limited | Ningxia Baota Activated Carbon Co., Ltd | 67.14
Shanxi DMD Corporation | China Nuclear Ningxia Activated Carbon Plant | 67.14
Shanxi DMD Corporation | Ningxia Guanghua Activated Carbon Co., Ltd | 67.14
Shanxi DMD Corporation | Shanxi Xinhua Chemical Co., Ltd | 67.14
Shanxi DMD Corporation | Tonghua Xinpeng Activated Carbon Factory | 67.14
Shanxi Industry Technology Trading Co., Ltd | Actview Carbon Technology Co., Ltd | 67.14
Shanxi Industry Technology Trading Co., Ltd | Datong Forward Activated Carbon Co., Ltd | 67.14
Shanxi Industry Technology Trading Co., Ltd | Datong Tri-Star & Power Carbon Plant | 67.14
Shanxi Industry Technology Trading Co., Ltd | Fu Yuan Activated Carbon Co., Ltd | 67.14
Shanxi Industry Technology Trading Co., Ltd | Jing Mao (Dongguan) Activated Carbon Co., Ltd | 67.14
Shanxi Industry Technology Trading Co., Ltd | Xi Li Activated Carbon Co., Ltd | 67.14
Shanxi Newtime Co., Ltd | Datong Forward Activated Carbon Co., Ltd | 67.14
Shanxi Newtime Co., Ltd | Ningxia Guanghua Chemical Activated Carbon Co., Ltd | 67.14
Shanxi Newtime Co., Ltd | Ningxia Tianfu Activated Carbon Co., Ltd | 67.14
Shanxi Qixian Foreign Trade Corporation | Datong Locomotive Coal & Chemicals Co., Ltd | 67.14
Shanxi Qixian Foreign Trade Corporation | Datong Tianzhao Activated Carbon Co., Ltd | 67.14
Shanxi Qixian Foreign Trade Corporation | Ningxia Huinong Xingsheng Activated Carbon Co., Ltd | 67.14
Shanxi Qixian Foreign Trade Corporation | Ningxia Yirong Alloy Iron Co., Ltd | 67.14
Shanxi Qixian Foreign Trade Corporation | Ninxia Tongfu Coking Co., Ltd | 67.14
Shanxi Qixian Foreign Trade Corporation | Shanxi Xiaoyi Huanyu Chemicals Co., Ltd | 67.14
Shanxi Sincere Industrial Co., Ltd | Datong Guanghua Activated Co., Ltd | 67.14
Shanxi Sincere Industrial Co., Ltd | Ningxia Guanghua-Cherishmet Activated Carbon Co., Ltd | 67.14
Shanxi Sincere Industrial Co., Ltd | Ningxia Pingluo County YaoFu Activated Carbon Factory | 67.14
Shanxi Xuanzhong Chemical Industry Co., Ltd | Ningxia Pingluo Xuanzhong Activated Carbon Co., Ltd | 67.14
Tangshan Solid Carbon Co., Ltd | Datong Zuoyun Biyun Activated Carbon Co., Ltd | 67.14
Tangshan Solid Carbon Co., Ltd | Ningxia Guanghua Activated Carbon Co., Ltd | 67.14
Tangshan Solid Carbon Co., Ltd | Ningxia Xingsheng Coal and Active Carbon Co., Ltd | 67.14
Tangshan Solid Carbon Co., Ltd | Pingluo Yu Yang Activated Carbon Co., Ltd | 67.14
Tianjin Maijin Industries Co., Ltd | Hegongye Ninxia Activated Carbon Factory | 67.14
Tianjin Maijin Industries Co., Ltd | Ningxia Pingluo County YaoFu Activated Carbon Plant | 67.14
Tianjin Maijin Industries Co., Ltd | Yinchuan Lanqiya Activated Carbon Co., Ltd | 67.14
United Manufacturing International (Beijing) Ltd | Datong Fu Ping Activated Carbon Co., Ltd | 67.14
United Manufacturing International (Beijing) Ltd | Datong Locomotive Coal & Chemical Co. Ltd | 67.14
United Manufacturing International (Beijing) Ltd | Xinhua Chemical Company Ltd | 67.14
Xi'an Shuntong International Trade & Industrials Co., Ltd | DaTong Tri-Star & Power Carbon Plant | 67.14
Xi'an Shuntong International Trade & Industrials Co., Ltd | Ningxia Huahui Activated Carbon Company Limited | 67.14
PRC-Wide Rate |  | 228.11

Continuation of Suspension of Liquidation

In accordance with section 735(c)(1)(B) of the Act, we will instruct U.S. Customs and Border Protection (“CBP”) to continue to suspend liquidation of all entries of subject merchandise from the PRC. We will also instruct CBP to require cash deposits or the posting of a bond equal to the estimated amount by which the normal value exceeds the U.S. price as indicated in the chart above. These instructions suspending liquidation will remain in effect until further notice.

This determination is issued and published pursuant to sections 735(d) and 777(i)(1) of the Act, and 19 CFR 351.224(e).

Dated: March 22, 2007.
David M. Spooner,
Assistant Secretary for Import Administration.

[FR Doc. E7-5927 Filed 3-29-07; 8:45 am]

BILLING CODE 3510-DS-P